DEPARTMENT OF THE TREASURY

Senior Executive Service; Legal Division Performance Review Board

AGENCY: Department of the Treasury.

ACTION: Notice of members of the Legal Division Performance Review Board (PRB).

SUMMARY: This notice announces the appointment of members of the Legal Division PRB. The purpose of this Board is to review and make recommendations concerning proposed performance appraisals, ratings, bonuses, and other appropriate personnel actions for incumbents of SES positions in the Legal Division.

DATES: Effective Date: October 31, 2017.

FOR FURTHER INFORMATION CONTACT: Office of the General Counsel, Department of the Treasury, 1500 Pennsylvania Avenue NW., Room 3000, Washington, DC 20220, Telephone: (202) 622-0283 (this is not a toll-free number).

SUPPLEMENTARY INFORMATION:

Composition of Legal Division PRB: The Board shall consist of at least three members. In the case of an appraisal of a career appointee, more than half the members shall consist of career appointees. Composition of the specific PRBs will be determined on an ad hoc basis from among the individuals listed in this notice.

The names and titles of the PRB members are as follows:

Paul Ahern, Assistant General Counsel (Enforcement & Intelligence);

Brian Callanan, Deputy General Counsel;

Himamauli Das, Counselor;

Eric Froman, Principal Deputy Assistant General Counsel (Banking and Finance);

Jean Gentry, Chief Counsel, U.S. Mint

Anthony Gledhill, Chief Counsel, Alcohol Tobacco, Tax, and Trade Bureau;

Elizabeth Horton, Deputy Assistant General Counsel (Ethics);

Jimmy Kirby, Chief Counsel, Financial Crimes Enforcement Network;

Jeffrey Klein, Deputy Assistant General Counsel (International Affairs);

Steven D. Laughton, Assistant General Counsel (Banking and Finance);

Robert Neis, Benefits Tax Counsel;

Martha M. Pacold, Deputy General Counsel;

Douglas Poms, Deputy International Tax Counsel;

Joel Pulliam, Deputy Assistant General Counsel (Banking and Finance);

Sidney Rocke, Chief Counsel, Bureau of Engraving and Printing;

Bradley Smith, Chief Counsel, Office of Foreign Assets Control;

Brian Sonfield, Assistant General Counsel (General Law, Ethics and Regulation);

David Sullivan, Assistant General Counsel (International Affairs);

Drita Tonuzi, Deputy Chief Counsel (Operations), Internal Revenue Service;

Heather Trew, Deputy Assistant General Counsel (Enforcement & Intelligence);

Krishna Vallabhaneni, Deputy Tax Legislative Counsel;

Thomas West, Tax Legislative Counsel and;

Paul Wolfteich, Chief Counsel, Bureau of the Fiscal Service.

Dated: October 23, 2017.
Brent J. McIntosh,
General Counsel.

[FR Doc. 2017-23618 Filed 10-30-17; 8:45 am]

BILLING CODE 4810-25-P